DEPARTMENT OF HOMELAND SECURITY

Coast Guard

[USCG-2010-0074]

South Texas Area Maritime Security (STAMS) Committee; Vacancies

AGENCY: Coast Guard, DHS.

ACTION: Solicitation for membership.

SUMMARY: This notice requests individuals interested in serving on the South Texas Area Maritime Security (STAMS) Committee to submit their application for membership to the Captain of the Port, Corpus Christi, Texas.

DATES: Requests for membership should reach the Corpus Christi Captain of the Port on or before April 15, 2010.

ADDRESSES: Requests for membership should be submitted to the Captain of the Port at the following address: Commander, USCG Sector Corpus Christi, 8930 Ocean Drive, Hangar 41, Corpus Christi, Texas 78419.

FOR FURTHER INFORMATION CONTACT: For questions about submitting an application or about the STAMSC in general, contact Mr. John Zarbock at 361-888-3162 (X501).

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these Area Maritime Security (AMS) Committees from the Federal Advisory Committee Act (FACA), Public Law 92-436, 86 Stat. 470 (5 U.S.C. App. 2). The AMSCs shall assist the Captain of the Port in the review, update, and exercising of the AMS Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Captain of the Port in developing and maintaining the Area maritime Security Plan.

STAMS Committee Membership

Members of the AMSC should have at least 5 years of experience related to maritime or port security operations. The South Texas AMSC has fourteen members, made up of at least one individual from the Corpus Christi, Rio Grande Valley, Port of Port Lavaca-Point Comfort and Victoria Barge Canal, Port Security Working Groups (PSWG). We are seeking to fill two vacancies with this solicitation. Applicants may be required to pass an appropriate security background check prior to appointment to the committee. Members' term of office will be for 5 years; however, a member is eligible to serve an additional term of office. Members will not receive any salary or other compensation for their service on the AMSC. In support of the USCG policy on gender and ethnic diversity, we encourage qualified women and members of minority groups to apply.

Request for Applications

Those seeking membership are not required to submit formal applications to the local Captain of the Port; however, because we do have an obligation to ensure that a specific number of members have the prerequisite maritime security experience, we encourage the submission of résumés highlighting experience in the maritime and security industries.

Dated: February 19, 2010.
R.J. Paulison,
Captain, U.S. Coast Guard, Federal Maritime Security Coordinator, Corpus Christi.

[FR Doc. 2010-4649 Filed 3-4-10; 8:45 am]

BILLING CODE 9110-04-P